DEPARTMENT OF STATE

[Delegation of Authority No. 310-1]

Delegation of Authority Under Section 306 of the Enhanced Border Security and Visa Entry Reform Act of 2002 to the Under Secretary for Political Affairs and the Assistant Secretary for Consular Affairs

By virtue of the authority vested in the Secretary of State, including Section 1 of the State Department Basic Authorities Act, as amended (22 U.S.C. 2651a), I hereby delegate to the Under Secretary for Political Affairs and to the Assistant Secretary for Consular Affairs, to the extent authorized by law, the authority under Section 306 of the Enhanced Border Security and Visa Entry Reform Act of 2002 (codified at 8 U.S.C. 1735) to determine, in consultation with the Secretary of Homeland Security and the heads of other appropriate United States agencies, that an alien who is a national of a designated state sponsor of international terrorism does not pose a threat to the safety or national security of the United States, under standards and procedures developed in consultation with the Secretary of Homeland Security and the heads of other appropriate United States agencies. This delegation of authority may be re-delegated.

Notwithstanding this delegation of authority, the Secretary, the Deputy Secretary, the Deputy Secretary for Management and Resources, and the Under Secretary for Management may exercise any function or authority delegated by this delegation of authority.

Delegation of Authority 310, dated March 14, 2008, is hereby revoked.

This Delegation of Authority will be published in the Federal Register.

Dated: October 7, 2015.
John F. Kerry,
Secretary of State.

[FR Doc. 2015-29619 Filed 11-18-15; 8:45 am]

BILLING CODE 4710-06-P